DEPARTMENT OF TRANSPORTATION

Federal Aviation Administration

14 CFR Part 39

[Docket No. FAA-2018-1070; Product Identifier 2018-NM-154-AD]

RIN 2120-AA64

Airworthiness Directives; Viking Air Limited (Type Certificate Previously Held by Bombardier, Inc.; Canadair Limited) Airplanes

AGENCY: Federal Aviation Administration (FAA), DOT.

ACTION: Notice of proposed rulemaking (NPRM).

SUMMARY: We propose to adopt a new airworthiness directive (AD) for certain Viking Air Limited Model CL-215-6B11 (CL-215T Variant) and CL-215-6B11 (CL-415 Variant) airplanes. This proposed AD was prompted by a report that a supplier fabricated Teflon parts with a charge of 15 percent fiberglass content instead of the specified 5 percent fiberglass content. This proposed AD would require repetitive detailed visual inspections of the aileron control system cables and flap interconnect system cables for damage or disconnected cables, corrective actions if necessary, and replacement of the Teflon parts in the aileron control systems, aileron/rudder interconnect, and aileron power unit beam. The replacement of these parts would terminate the repetitive inspections. We are proposing this AD to address the unsafe condition on these products.

DATES: We must receive comments on this proposed AD by March 25, 2019.

ADDRESSES: You may send comments, using the procedures found in 14 CFR 11.43 and 11.45, by any of the following methods:

• Federal eRulemaking Portal: Go to http://www.regulations.gov. Follow the instructions for submitting comments.

• Fax: 202-493-2251.

• Mail: U.S. Department of Transportation, Docket Operations, M-30, West Building Ground Floor, Room W12-140, 1200 New Jersey Avenue SE, Washington, DC 20590.

• Hand Delivery: Deliver to Mail address above between 9 a.m. and 5 p.m., Monday through Friday, except Federal holidays.

For service information identified in this NPRM, contact Viking Air Limited, 1959 de Havilland Way, Sidney, British Columbia V8L 5V5, Canada; telephone +1-250-656-7227; fax +1-250-656-0673; email acs-technical.publications@vikingair.com; internet http://www.vikingair.com. You may view this service information at the FAA, Transport Standards Branch, 2200 South 216th St., Des Moines, WA. For information on the availability of this material at the FAA, call 206-231-3195.

Examining the AD Docket

You may examine the AD docket on the internet at http://www.regulations.gov by searching for and locating Docket No. FAA-2018-1070; or in person at Docket Operations between 9 a.m. and 5 p.m., Monday through Friday, except Federal holidays. The AD docket contains this NPRM, the regulatory evaluation, any comments received, and other information. The street address for Docket Operations (phone: 800-647-5527) is in the ADDRESSES section. Comments will be available in the AD docket shortly after receipt.

FOR FURTHER INFORMATION CONTACT: Darren Gassetto, Aerospace Engineer, Mechanical Systems and Admin Services Section, FAA, New York ACO Branch, 1600 Stewart Avenue, Suite 410, Westbury, NY 11590; telephone 516-228-7323; fax 516-794-5531; email 9-avs-nyaco-cos@faa.gov.

SUPPLEMENTARY INFORMATION:

Comments Invited

We invite you to send any written relevant data, views, or arguments about this proposal. Send your comments to an address listed under the ADDRESSES section. Include “Docket No. FAA-2018-1070; Product Identifier 2018-NM-154-AD” at the beginning of your comments. We specifically invite comments on the overall regulatory, economic, environmental, and energy aspects of this NPRM. We will consider all comments received by the closing date and may amend this NPRM because of those comments.

We will post all comments we receive, without change, to http://www.regulations.gov, including any personal information you provide. We will also post a report summarizing each substantive verbal contact we receive about this NPRM.

Discussion

Transport Canada Civil Aviation (TCCA), which is the aviation authority for Canada, has issued Canadian AD CF-2018-27, dated October 12, 2018 (referred to after this as the Mandatory Continuing Airworthiness Information, or “the MCAI”), to correct an unsafe condition for certain Viking Air Limited Model CL-215-6B11 (CL-215T Variant) and CL-215-6B11 (CL-415 Variant) airplanes. The MCAI states:

It was found that a supplier fabricated Teflon™ parts with a charge of 15% fiberglass content in lieu of the required 5%. Parts manufactured with this higher percentage of fiberglass may cause wear and rupture of control cables due to greater friction if contacted [which could lead to reduced controllability of the airplane].

This [Canadian] AD mandates a [detailed] visual inspection of the aileron control system cables and flap interconnect system cables in the area of the aileron power control unit. The inspection is required to ensure that there is no cable damage or disconnect until the replacement of the Teflon™ parts has been completed in the aileron control system, the aileron/rudder interconnect and the aileron power unit beam. This [Canadian] AD also requires replacement of the Teflon™ parts.

Signs of damage include broken wires, unusual wear, or fraying cables. You may examine the MCAI in the AD docket on the internet at http://www.regulations.gov by searching for and locating Docket No. FAA-2018-1070.

Related Service Information Under 1 CFR Part 51

Bombardier has issued Service Bulletin 215-3185, Revision 1, dated January 28, 2014; and Service Bulletin 215-4476, Revision 1, dated January 28, 2014. The service information describes procedures for a detailed visual inspection in the area of the aileron power control unit for damaged or disconnected aileron control system cables or flap interconnect system cables, and corrective actions. These documents are distinct since they apply to different airplane models in different configurations.

Bombardier has also issued Service Bulletin 215-3186, Revision 3, dated September 29, 2015; and Service Bulletin 215-4477, Revision 2, dated September 29, 2015. The service information describes procedures for replacement of Teflon parts in the aileron control system, the aileron/rudder interconnect, and the aileron power unit beam. These documents are distinct since they apply to different airplane models in different configurations.

This service information is reasonably available because the interested parties have access to it through their normal course of business or by the means identified in the ADDRESSES section.

FAA's Determination

This product has been approved by the aviation authority of another country, and is approved for operation in the United States. Pursuant to our bilateral agreement with the State of Design Authority, we have been notified of the unsafe condition described in the MCAI and service information referenced above. We are proposing this AD because we evaluated all the relevant information and determined the unsafe condition described previously is likely to exist or develop on other products of the same type design.

Proposed Requirements of This NPRM

This proposed AD would require accomplishing the actions specified in the service information described previously.

Costs of Compliance

We estimate that this proposed AD affects 1 airplane of U.S. registry. We estimate the following costs to comply with this proposed AD:

Estimated Costs for Required Actions
Labor cost | Parts cost | Cost per product | Cost on U.S. operators
66 work-hours × $85 per hour = $5,610 | $16,456 | $22,066 | $22,066

We have received no definitive data that would enable us to provide cost estimates for the on-condition actions specified in this proposed AD.

Authority for This Rulemaking

Title 49 of the United States Code specifies the FAA's authority to issue rules on aviation safety. Subtitle I, section 106, describes the authority of the FAA Administrator. Subtitle VII: Aviation Programs, describes in more detail the scope of the Agency's authority.

We are issuing this rulemaking under the authority described in Subtitle VII, Part A, Subpart III, Section 44701: “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

This proposed AD is issued in accordance with authority delegated by the Executive Director, Aircraft Certification Service, as authorized by FAA Order 8000.51C. In accordance with that order, issuance of ADs is normally a function of the Compliance and Airworthiness Division, but during this transition period, the Executive Director has delegated the authority to issue ADs applicable to transport category airplanes to the Director of the System Oversight Division.

Regulatory Findings

We determined that this proposed AD would not have federalism implications under Executive Order 13132. This proposed AD would not have a substantial direct effect on the States, on the relationship between the national Government and the States, or on the distribution of power and responsibilities among the various levels of government.

For the reasons discussed above, I certify this proposed regulation:

1. Is not a “significant regulatory action” under Executive Order 12866;

2. Is not a “significant rule” under the DOT Regulatory Policies and Procedures (44 FR 11034, February 26, 1979);

3. Will not affect intrastate aviation in Alaska; and

4. Will not have a significant economic impact, positive or negative, on a substantial number of small entities under the criteria of the Regulatory Flexibility Act.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

Viking Air Limited (Type Certificate Previously Held by Bombardier, Inc.; Canadair Limited): Docket No. FAA-2018-1070; Product Identifier 2018-NM-154-AD.

(a) Comments Due Date

We must receive comments by March 25, 2019.

(b) Affected ADs

None.

(c) Applicability

This AD applies to Viking Air Limited (Type Certificate previously held by Bombardier, Inc.; Canadair Limited) airplanes, certificated in any category, as identified in paragraphs (c)(1) and (c)(2) of this AD.

(1) Model CL-215-6B11 (CL-215T Variant) airplanes, serial numbers 1085, 1086, 1093, 1094, and 1098 through 1101 inclusive.

(2) Model CL-215-6B11 (CL-415 Variant) airplanes, serial numbers 2076 through 2090 inclusive.

(d) Subject

Air Transport Association (ATA) of America Code 27, Flight controls.

(e) Reason

This AD was prompted by a report that a supplier fabricated Teflon parts with a charge of 15 percent fiberglass content instead of the specified 5 percent fiberglass content. We are issuing this AD to address parts manufactured with this higher percentage of fiberglass, which may cause deterioration of control cables and adjacent parts due to greater friction should they come into contact, which could lead to reduced controllability of the airplane.

(f) Compliance

Comply with this AD within the compliance times specified, unless already done.

(g) Inspection

Within 50 flight hours after the effective date of this AD: Accomplish a detailed visual inspection of the aileron control systems cables and flap interconnect system cables for disconnected or damaged cables in accordance with paragraph 2.A. of the Accomplishment Instructions of Bombardier Service Bulletin 215-3185, Revision 1, dated January 28, 2014; or Bombardier Service Bulletin 215-4476, Revision 1, dated January 28, 2014; as applicable. Repeat the inspection thereafter at intervals not to exceed 50 flight hours.

(h) Corrective Action

If any disconnected or damaged (including broken wires, unusual wear, or fraying) cables are found during any inspection required by paragraph (g) of this AD: Before further flight, obtain corrective actions approved by the Manager, New York ACO Branch, FAA; or Transport Canada Civil Aviation (TCCA); or Viking Air Limited's TCCA Design Approval Organization (DAO). If approved by the DAO, the approval must include the DAO-authorized signature. Accomplish the corrective actions within the compliance time specified therein. If no compliance time is specified in the corrective actions instructions, accomplish the corrective action before further flight.

(i) Replacement

Within 29 months after the effective date of this AD: Replace the Teflon parts in the aileron control system, the aileron/rudder interconnect, and the aileron power unit beam in accordance with Parts A, B, and C of the Accomplishment Instructions of Bombardier Service Bulletin 215-3186, Revision 3, dated September 29, 2015; or Bombardier Service Bulletin 215-4477, Revision 2, dated September 29, 2015.

(j) Terminating Action for Inspections

Accomplishing the replacement required by paragraph (i) of this AD on an airplane constitutes terminating action for the inspections required by paragraph (g) of this AD for that airplane.

(k) Credit for Previous Actions

This paragraph provides credit for actions required by paragraph (i) of this AD, if those actions were performed before the effective date of this AD using the service information specified in paragraphs (k)(1) through (k)(5) of this AD.

(1) Bombardier Service Bulletin 215-3186, dated September 30, 2013.

(2) Bombardier Service Bulletin 215-3186, Revision 1, dated November 26, 2014.

(3) Bombardier Service Bulletin 215-3186, Revision 2, dated December 5, 2014.

(4) Bombardier Service Bulletin 215-4477, dated September 30, 2013.

(5) Bombardier Service Bulletin 215-4477, Revision 1, dated November 26, 2014.

(l) No Reporting Requirement

Although Bombardier Service Bulletin 215-3185, Revision 1, dated January 28, 2014; Bombardier Service Bulletin 215-3186, Revision 3, dated September 29, 2015; Bombardier Service Bulletin 215-4476, Revision 1, dated January 28, 2014; and Bombardier Service Bulletin 215-4477, Revision 2, dated September 29, 2015; specify to submit certain information to the manufacturer, this AD does not include that requirement.

(m) Other FAA AD Provisions

The following provisions also apply to this AD:

(1) Alternative Methods of Compliance (AMOCs): The Manager, New York ACO Branch, FAA, has the authority to approve AMOCs for this AD, if requested using the procedures found in 14 CFR 39.19. In accordance with 14 CFR 39.19, send your request to your principal inspector or local Flight Standards District Office, as appropriate. If sending information directly to the manager of the certification office, send it to ATTN: Program Manager, Continuing Operational Safety, FAA, New York ACO Branch, 1600 Stewart Avenue, Suite 410, Westbury, NY 11590; telephone 516-228-7300; fax 516-794-5531. Before using any approved AMOC, notify your appropriate principal inspector, or lacking a principal inspector, the manager of the local flight standards district office/certificate holding district office.

(2) Contacting the Manufacturer: For any requirement in this AD to obtain corrective actions from a manufacturer, the action must be accomplished using a method approved by the Manager, New York ACO Branch, FAA; or TCCA; or Viking Air Limited's TCCA DAO. If approved by the DAO, the approval must include the DAO-authorized signature.

(n) Related Information

(1) Refer to Mandatory Continuing Airworthiness Information (MCAI) Canadian AD CF-2018-27, dated October 12, 2018, for related information. This MCAI may be found in the AD docket on the internet at http://www.regulations.gov by searching for and locating Docket No. FAA-2018-1070.

(2) For more information about this AD, contact Darren Gassetto, Aerospace Engineer, Mechanical Systems and Admin Services Section, FAA, New York ACO Branch, 1600 Stewart Avenue, Suite 410, Westbury, NY 11590; telephone 516-228-7323; fax 516-794-5531; email 9-avs-nyaco-cos@faa.gov.

(3) For service information identified in this AD, contact Viking Air Limited, 1959 de Havilland Way, Sidney, British Columbia V8L 5V5, Canada; telephone +1-250-656-7227; fax +1-250-656-0673; email acs-technical.publications@vikingair.com; internet http://www.vikingair.com. You may view this service information at the FAA, Transport Standards Branch, 2200 South 216th St., Des Moines, WA. For information on the availability of this material at the FAA, call 206-231-3195.

Issued in Des Moines, Washington, on January 10, 2019.
Jeffrey E. Duven,
Director, System Oversight Division, Aircraft Certification Service.

[FR Doc. 2019-01524 Filed 2-7-19; 8:45 am]

BILLING CODE 4910-13-P